DEPARTMENT OF AGRICULTURE

Rural Utilities Service

[Docket No. RUS-23-Telecom-0023]

Publication of Depreciation Rates for Telecommunications Plant

AGENCY: Rural Utilities Service, USDA.

ACTION: Notice.

SUMMARY: The United States Department of Agriculture (USDA) Rural Utilities Service (RUS) administers rural utilities programs, including the Telecommunications Program. Through this notice, RUS is announcing the depreciation rates for telecommunication/broadband facilities and a new process for providing these rates going forward.

DATES: These rates are effective immediately and will remain in effect until superseded by subsequent rates as identified in the SUPPLEMENTARY INFORMATION section below. These rates are to be used in applying for financial assistance from RUS.

FOR FURTHER INFORMATION CONTACT: Laurel Leverrier, Assistant Administrator, Telecommunications Program, Rural Utilities Service, STOP 1590—Room 4121, 1400 Independence Avenue SW, Washington, DC 20250-1590. Telephone: (202) 720-9556.

SUPPLEMENTARY INFORMATION: RUS is publishing its median depreciation rates for telecommunication/broadband facilities. If an applicant for RUS financial assistance does not have depreciation rates approved by their respective Public Utilities Commission (PUC) or equivalent, these depreciation rates are to be used in the financial studies supporting the application and for determining the amortization period for any loan component. RUS will no longer publish these rates in the Federal Register. There will be an option in the RUS on-line application system that allows applicants to use PUC approved depreciation rates or default to the RUS median depreciation rates reflected in the system. The following chart comprises the median depreciation rates:

Median Depreciation Rates
Code | Group | Letter | Type | Rate (%)
1000 | 1. Network & Access Equipment | a | Switching Equipment | 9.30
1001 | 1. Network & Access Equipment | b | Routing Equipment | 10.00
1002 | 1. Network & Access Equipment | c | Transport Equipment | 10.00
1003 | 1. Network & Access Equipment | d | Access Equipment | 10.00
1004 | 1. Network & Access Equipment | e | Video Equipment | 9.61
1005 | 1. Network & Access Equipment | f | Power Equipment | 10.00
1006 | 1. Network & Access Equipment | g | Satellite Equipment | 9.26
1007 | 1. Network & Access Equipment | h | Other (specify) | 10.00
2000 | 2. Outside Plant | a | Copper Cable—Aerial | 6.00
2001 | 2. Outside Plant | b | Copper Cable—Buried | 5.15
2002 | 2. Outside Plant | c | Copper Cable—Underground | 5.00
2003 | 2. Outside Plant | d | Coaxial Cable—Aerial | 6.00
2004 | 2. Outside Plant | e | Coaxial Cable—Buried | 5.15
2005 | 2. Outside Plant | f | Coaxial Cable—Underground | 5.00
2006 | 2. Outside Plant | g | Fiber Cable—Aerial | 5.40
2007 | 2. Outside Plant | h | Fiber—Buried | 5.00
2008 | 2. Outside Plant | i | Fiber—Underground Cable | 5.00
2009 | 2. Outside Plant | j | Fiber—Submarine Cable | 5.00
2010 | 2. Outside Plant | k | Conduit Systems | 4.00
2011 | 2. Outside Plant | l | Ducts (Vacant) | 5.00
2012 | 2. Outside Plant | m | Drops | 5.00
2013 | 2. Outside Plant | n | Cabinets/underground vaults | 5.00
2014 | 2. Outside Plant | o | Poles | 6.35
2015 | 2. Outside Plant | p | Make-ready | 5.00
2016 | 2. Outside Plant | q | Other (specify) | 5.00
3000 | 3. Buildings | a | New Construction | 3.30
3001 | 3. Buildings | b | Pre-Fab Huts | 3.30
3002 | 3. Buildings | c | Improvements | 3.30
3003 | 3. Buildings | d | Other (specify) | 3.30
4001 | 4. Towers | a | Guyed Towers | 5.00
4002 | 4. Towers | b | Lattice Towers | 5.00
4003 | 4. Towers | c | Monopole/Self-Supporting Tower | 5.00
4004 | 4. Towers | d | Wood poles | 5.00
4005 | 4. Towers | e | Improvements | 5.00
4006 | 4. Towers | f | Other (specify) | 5.00
5000 | 5. Customer Premises Equipment | a | Video Set Top Boxes | 12.00
5001 | 5. Customer Premises Equipment | b | Modems and Routers | 12.00
5002 | 5. Customer Premises Equipment | c | Inside Wiring | 10.40
5003 | 5. Customer Premises Equipment | d | Multi-Terminal Adapter (VoIP) | 11.33
5004 | 5. Customer Premises Equipment | e | Smart Meters | 11.00
5005 | 5. Customer Premises Equipment | f | Other (specify) | 12.00
6000 | 6. Support Assets | a | Construction Vehicles | 10.00
6001 | 6. Support Assets | b | Construction Equipment | 10.00
6002 | 6. Support Assets | c | Motor Vehicles | 17.00
6003 | 6. Support Assets | d | Special Purpose Vehicles | 11.40
6004 | 6. Support Assets | e | Office Equipment | 10.00
6005 | 6. Support Assets | f | Office Furniture | 10.00
6006 | 6. Support Assets | g | Billing System | 20.00
6007 | 6. Support Assets | h | Test Equipment | 10.00
6008 | 6. Support Assets | i | Portable Generators | 10.00
6009 | 6. Support Assets | j | Tools | 10.00
6010 | 6. Support Assets | k | Other (specify) | 10.00

Andrew Berke,
Administrator, Rural Utilities Service.

[FR Doc. 2023-25288 Filed 11-15-23; 8:45 am]

BILLING CODE 3410-15-P